DEPARTMENT OF JUSTICE

Antitrust Division

Notice Pursuant to the National Cooperative Research and Production Act of 1993—National Storage Industry Consortium—Heat Assisted Magnetic Recording (“HAMR”)

Notice is hereby given that, on January 8, 2002, pursuant to section 6(a) of the National Cooperative Research and Production Act of 1993, 15 U.S.C. 4301 et seq. (“the Act”), National Storage Industry Consortium (“NSIC”) has filed written notifications on behalf of a joint research and development venture with Heat Assisted Magnetic Recording (“HAMR”) simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Seagate Technology LLC, Scotts Valley, CA; Advanced Research Corporation, Minneapolis, MN; MEMS Optical, Inc., Huntsville, AL; and NSIC, San Diego, CA. The following universities have joined NSCI-HAMR as university associate members: Carnegie Mellon University, Pittsburgh, PA; and The Arizona Board of Regents on behalf of The University of Arizona, Tucson, AZ. The nature and objectives of the venture are to develop and demonstrate materials, optical and magnetic components, and engineering modeling tools for a novel means of overcoming the superparamagnetic limit in magnetic recording, enabling increases in storage densities to one trillion bits per square inch and beyond.

Constance K. Robinson,
Director of Operations, Antitrust Division.

[FR Doc. 02-5539 Filed 3-7-02; 8:45 am]

BILLING CODE 4410-11-M